DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Treatment Episode Data Set (TEDS) (OMB No. 0930-0335)—Extension

The Substance Abuse and Mental Health Services Administration (SAMHSA) is requesting an extension to collect the Treatment Episode Data Set (TEDS) data collection (OMB No. 0930-0335), which expires on March 31, 2019. TEDS is a compilation of client-level substance use treatment admission and discharge data submitted by states on clients treated in facilities that receive state funds. SAMHSA is also requesting an extension to collect the client-level mental health admission and update/discharge data (MH-TEDS/MH-CLD) submitted by states on clients treated in facilities that receive state funds (also OMB No. 0930-0335).

TEDS/MH-TEDS/MH-CLD data are collected to obtain information on the number of admissions and updates/discharges at publicly funded substance use treatment and mental health services facilities and on the characteristics of clients receiving services at those facilities.

TEDS/MH-TEDS/MH-CLD also monitor trends in the demographic, substance use, and mental health characteristics of admissions. In addition, several of the data elements used to calculate performance measures for the Substance Abuse Block Grant (SABG) and Mental Health Block Grant (MHBG) applications are collected through the TEDS/MH-TEDS/MH-CLD.

Most states collect the TEDS/MH-TEDS/MH-CLD data elements from their treatment providers for their own administrative purposes and are able to submit a cross-walked extract of their data to TEDS/MH-TEDS/MH-CLD. No changes are expected in the TEDS/MH-TEDS/MH-CLD data elements that are collected.

Estimated annual burden for the separate TEDS/MH-TEDS/MH-CLD activities is as follows:

Type of activity | Number of respondents (states/ jurisdictions) | Responses per respondent | Total responses | Hours per response | Total burden hours
TEDS Admission Data | 52 | 4 | 208 | 6.25 | 1,300
TEDS Discharge Data | 52 | 4 | 208 | 8.25 | 1,716
TEDS Crosswalks | 5 | 1 | 5 | 10 | 50
MH-CLD BCI Data | 30 | 1 | 30 | 30 | 900
MH-CLD SHR Data | 30 | 1 | 30 | 5 | 150
MH-TEDS Admissions Data | 29 | 4 | 116 | 6.25 | 725
MH-TEDS Update/Discharge Data | 29 | 4 | 116 | 8.25 | 957
MH-TEDS Crosswalks | 10 | 1 | 10 | 10 | 100
Total | 59 |  | 723 |  | 5,898

Written comments and recommendations concerning the proposed information collection should be sent by March 4, 2019 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2019-00420 Filed 1-30-19; 8:45 am]

BILLING CODE 4162-20-P